DEPARTMENT OF THE TREASURY

Submission for OMB Review; Comment Request

December 16, 2011.

The Department of the Treasury will submit the following information collection request to the Office of Management and Budget (OMB) for review and clearance in accordance with the Paperwork Reduction Act of 1995, Public Law 104-13, on or after the date of publication of this notice.

DATES: Comments should be received on or before January 20, 2012, to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

Office of the General Counsel

OMB Number: 1505-0204.

Type of Review: Extension of a currently approved collection.

Title: Prohibition on Funding of Unlawful Internet Gambling.

Abstract: The unlawful Internet Gambling Enforcement Act requires the Treasury and the Federal Reserve Board (the “Agencies”) to prescribe regulations requiring designated payment systems and all participants to identify and block unlawful Internet gambling transactions through the establishment of reasonably designated policies and procedures. The regulation imposes a recordkeeping requirement on regulated entities (i.e., depository institutions, money transmitting business operators such as Western Union, MoneyGram, and PayPal, and card system operators such as Visa and MasterCard) by requiring them to establish and maintain written policies and procedures reasonably designed to prevent or prohibit restricted transactions.

Affected Public: Private Sector: Businesses or other for-profits.

Estimated Total Annual Burden Hours: 589,520.

Robert Dahl,
Treasury PRA Clearance Officer.

[FR Doc. 2011-32650 Filed 12-20-11; 8:45 am]

BILLING CODE 4810-25-P